DEPARTMENT OF TRANSPORTATION

Federal Aviation Administration

[Docket No. FAA-2020-0434]

Agency Information Collection Activities: Requests for Comments; Clearance of a Renewed Approval of Information Collection: Passenger Facility Charge (PFC) Application

AGENCY: Federal Aviation Administration (FAA), DOT.

ACTION: Notice and request for comments.

SUMMARY: In accordance with the Paperwork Reduction Act of 1995, FAA invites public comments about our intention to request Office of Management and Budget (OMB) approval to renew an information collection. The Federal Register Notice with a 60-day comment period soliciting comments on the following collection of information was published on May 8, 2020.

DATES: Written comments should be submitted by January 20, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Vanessa Balgobin by email at: Vanessa.balgobin@faa.gov; phone: 202-267-3867.

SUPPLEMENTARY INFORMATION: You are asked to comment on any aspect of this information collection, including (a) whether the proposed collection of information is necessary for FAA's performance; (b) the accuracy of the estimated burden; (c) ways for FAA to enhance the quality, utility and clarity of the information collection; and (d) ways that the burden could be minimized without reducing the quality of the collected information.

OMB Control Number: 2120-0557.

Title: Passenger Facility Charge (PFC) Application.

Form Numbers: FAA Form 5500-1.

Type of Review: Renewal of an Information Collection.

Background: The Federal Register Notice with a 60-day comment period soliciting comments on the following collection of information was published on May 8, 2020 (85 FR 27506). The FAA will use any information submitted in response to this collection to carry out the intent of 49 U.S.C. 40117. This statute authorizes public agencies controlling airports to impose PFCs and use PFC revenues. The information collected enables the FAA to approve the collection of PFC revenue for projects which preserve or enhance safety, security, or capacity of the national air transportation system, or which reduce noise or mitigate noise impacts resulting from an airport, or which furnish opportunities for enhanced competition between or among air carriers, and to provide oversight of the PFC program, as required by statute.

Respondents: Approximately 650 respondents annually.

Frequency: On occasion.

Estimated Average Burden per Response: Approximately 2 hours.

Estimated Total Annual Burden: Approximately 35,466 hours annually.

Issued in Washington, DC, on December 15, 2020.
David F. Cushing,
Manager, Airports Financial Assistance Division, APP-500.

[FR Doc. 2020-27997 Filed 12-18-20; 8:45 am]

BILLING CODE 4910-13-P